ENVIRONMENTAL PROTECTION AGENCY

[FRL-6915-9]

Proposed Administrative Agreement Pursuant to the Comprehensive Environmental Response, Compensation, and Liability Act and the Resource, Conservation and Recovery Act; The Doe Run Resources Corporation, Herculaneum, Missouri, Docket Nos. CERCLA-7-2000-0029 and RCRA-7-2000-0018

AGENCY: Environmental Protection Agency.

ACTION: Notice; request for public comment.

SUMMARY: In accordance with Section 122(i) of the Comprehensive Environmental Response, Compensation, and Liability Act, as amended (“CERCLA”), 42 U.S.C. 9622(i), and Section 7003(d) of the Resource Conservation and Recovery Act (“RCRA”), 42 U.S.C. 6973(d) notification is hereby given of a proposed administrative agreement concerning The Doe Run Resources Corporation (“Respondent”), at 881 Main Street in Herculaneum, Missouri. Under the Agreement, the Respondent agrees to perform response actions to abate an imminent and substantial endangerment to the public health, welfare, or the environment that may be presented by (i) the actual or threatened release of hazardous substances at or from the facility, and/or (ii) the past or present handling, storage, treatment, transportation or deposition by Respondent of any solid waste or hazardous waste. This agreement also concerns the (1) performance and oversight of a Human Health and Ecological Risk Assessment; (2) reimbursement by Respondent of costs incurred by the United States and the Missouri Department of Natural Resources (“MDNR”) in connection with this Order; and (3) collection of sufficient data, samples and other information, in conjunction with the MDNR and U.S. Fish and Wildlife Service (“USFWS”), in their capacity as Natural Resource Trustees to enable the completion of an injury determination and other appropriate natural resource damage assessment activities in accordance with 43 CFR Part 11. Respondent will clean up soil contamination caused by its smelter operations, including contaminated soil in residential areas in the vicinity of the smelter. Respondent will conduct a blood lead study and public education program on health effects of lead exposure through the air and soil, mine wastes, smelting activity and lead paint to citizens of Herculaneum and the surrounding area. Respondent will install air emission controls. Respondent will study and implement short-term and long-term measures to control runoff of pollutants from its 24-acre slag pile and will ensure that the slag pile is operated in a way that prevents loss of slag into the environment. Respondent will develop and conduct a groundwater monitoring program. Respondent will investigate other potential areas affected by its smelter operations. The Respondent agrees to pay oversight costs incurred by the United States and MDNR pursuant to an Administrative Order on Consent (“Order”) dated October 11, 2000. The settlement includes a covenant not to sue the settling party pursuant to Section 107(a) of CERCLA, 42 U.S.C. 9607(a) for recovery of past response costs or future response costs incurred by the United States or MDNR in connection with this response action or this Order. This covenant not to sue shall take effect upon receipt by EPA and MDNR of the payments required by the Order and is conditioned upon the complete and satisfactory performance by Respondent of its obligations under the Order. Under the agreement, Respondent pays $25,013.04 for reimbursement of past costs incurred by the United States. Respondent also pays $3,569.20 for reimbursement of past natural resource damage assessment costs incurred by MDNR.

For thirty (30) days following the date of publication of this notice, the EPA will receive written comments relating to the settlement. The EPA will consider all comments received and may modify or withdraw its consent to the settlement if comments received from the public during this comment period or at the public meeting disclose facts or considerations which indicate that the settlement is inappropriate, improper, or inadequate. The public meeting is on Thursday, December 14, 2000, 7:00 P.M., at the Herculaneum United Methodist Church, 672 Main, Herculaneum, Missouri. The EPA's response to any comments received will be available for public inspection at the Herculaneum Public Library, 1 Parkwood Court, Herculaneum, Missouri, and from Kathy Robinson, Regional Hearing Clerk, EPA, 901 North 5th Street, Kansas City, Kansas 66101.

DATES: Comments must be submitted on or before January 12, 2001.

ADDRESSES: A copy of the proposed settlement and the Administrative Record are available for public inspection at the Office of the Regional Hearing Clerk and at the Herculaneum Public Library, at the addresses referenced above. A copy of the proposed settlement may be obtained from Kathy Robinson, the Regional Hearing Clerk, telephone: (913) 551-7567. Comments should reference The Doe Run Resources Corporation, at 881 Main Street in Herculaneum, Missouri, Docket No. CERCLA 7-2000-0029 and Docket No. RCRA-7-2000-0018 and should be addressed to Regional Hearing Clerk, EPA, 901 N. 5th Street, Kansas City, Kansas 66101.

FOR FURTHER INFORMATION CONTACT: Julie Murray, Assistant Regional Counsel, EPA, 901 N. 5th Street, Kansas City, Kansas 66101, telephone: (913) 551-7448, or Shelley Woods, Assistant Attorney General, 221 W. High, P.O. Box 899, Jefferson City, Missouri 65102, telephone: (573) 751-0660.

Dated: December 5, 2000.
Dennis Grams,
Regional Administrator, Region VII.

[FR Doc. 00-31726 Filed 12-12-00; 8:45 am]

BILLING CODE 6560-50-P